DEPARTMENT OF DEFENSE

Department of the Army, Corps of Engineers

Notice of Availability of the Final Environmental Impact Statement (FEIS) Dated July 2004 for the Route Location, Adoption, and Construction of State Route 905 Between the Otay Mesa Port of Entry and Interstate 805 in the County of San Diego, CA

AGENCY: U.S. Army Corps of Engineers, DoD.

ACTION: Notice of availability.

SUMMARY: The U.S. Army Corps of Engineers, Los Angeles District (Corps) intends to adopt the FEIS completed by the U.S. Department of Transportation, Federal Highways Administration (FHWA) for purposes of compliance with the National Environmental Policy Act.

DATES: Written comments must be received by April 10, 2006.

ADDRESSES: U.S. Army Corps of Engineers, ATTN: CESPL-CO-R, San Diego Regulatory Field Office, 168885 West Bernardo Drive, Suite 300A, San Diego, California 92127. Comments may also be submitted, via electronic mail, to: terrence.dean@usace.army.mil.

FOR FURTHER INFORMATION CONTACT: Mr. Terry Dean, San Diego Regulatory Field Office, at (858) 674-5386.

SUPPLEMENTARY INFORMATION: The California Department of Transportation requires a Department of the Army authorization to discharge fill material into approximately 3.10 hectares (7.68 acres) of jurisdictional waters of the United States, including wetlands, to construct State Route 905 from Interstate 805 to the Otay Mesa Port of Entry with Mexico, a distance of approximately 10 kilometers (6.2 miles), including three lanes in each direction, with a wide median for possible future high occupancy vehicle (HOV) lanes. Local interchanges are proposed at Caliente Avenue, Heritage Road, Britannia Boulevard, and La Media Road, as would a freeway-to-freeway interchange at State Route 125.

The Corps was not a cooperating agency for the above FEIS. Recirculation of the document is necessary under 40 CFR 1506.3(b).

Copies of the FEIS are available in CD or paper format for review at the following locations:

CalTrans District—11, 2829 Juan Street, San Diego, CA 92186

City of San Diego—Central Library, 820 E Street, San Diego, CA 92101

Otay Mesa—San Diego Branch Library, 3003 Coronado Avenue, San Diego, CA 92154

San Ysidro—San Diego Branch Library, 101 West San Ysidro Boulevard , San Diego, CA 92173

South Chula Vista Library, 389 Orange Avenue, Chula Vista, CA 91911

U.S. Army Corps of Engineers, 16885 West Bernardo Drive, Suite 300A, San Diego, CA 92127

A hard copy may be obtained by contacting Mr. Dean in writing at the address or e-mail above.

David H. Turk,
Colonel, U.S. Army, Acting District Engineer.

[FR Doc. E6-3425 Filed 3-9-06; 8:45 am]

BILLING CODE 3710-KF-P